DEPARTMENT OF DEFENSE

Office of the Secretary

[Transmittal No. 20-36]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 20-36 with attached Policy Justification and Sensitivity of Technology.

Dated: August 11, 2020.
Aaron T. Siegel,
Alternate OSD Federal Register Liaison Officer, Department of Defense.

BILLING CODE 5001-06-P

BILLING CODE 5001-06-C

Transmittal No. 20-36

Notice of Proposed Issuance of Letter of Offer Pursuant to Section 36(b)(1) of the Arms Export Control Act, as amended

(i) Prospective Purchaser: Government of Jordan

(ii) Total Estimated Value:

Major Defense Equipment* | $19 million
Other | $ 4 million
TOTAL | $23 million

(iii) Description and Quantity or Quantities of Articles or Services under Consideration for Purchase: The Government of Jordan has requested to buy one (1) UH-60M Black Hawk Helicopter in standard U.S. Army configuration with standard Government Furnished Equipment (GFE).

Major Defense Equipment (MDE):

One (1) UH-60M Black Hawk aircraft

Two (2) T700-GE-701D engines

One (1) Common Missile Warning System

Non-MDE:

Also included is one (1) AN/APR-39 Radar Signal Detecting Set; one (1) AN/AVR-2B Laser Detecting Set; two (2) AN-ARC-231 Radios; two (2) AN-ARC-201D Radios; one (1) AN/APX-123A Identification Friend or Foe (IFF) Transponder; two (2) Embedded Global Positioning System with Inertial Navigation (EGIs); one (1) Common Missile Warning System User Data Module; Aviation Mission Planning System (AMPS); AMPS software development and support services; and other related elements of logistical, engineering, and program support.

(iv) Military Department: Army (JO-B-YEA)

(v) Prior Related Cases, if any:

(vi) Sales Commission, Fee, etc., Paid, Offered, or Agreed to be Paid: None

(vii) Sensitivity of Technology Contained in the Defense Article or Defense Services Proposed to be Sold: See Attached Annex

(viii) Date Report Delivered to Congress: July 7, 2020

*As defined in Section 47(6) of the Arms Export Control Act.

POLICY JUSTIFICATION

Jordan - U-60M Black Hawk Helicopters

The Government of Jordan has requested to buy one (1) UH-60M Black Hawk helicopter in standard U.S. Army configuration with standard Government Furnished Equipment (GFE), including two (2) T700-GE-701D engines and one (1) Common Missile Warning System. Also included is one (1) AN/APR-39 Radar Signal Detecting Set; one (1) AN/AVR-2B Laser Detecting Set; two (2) AN-ARC-231 Radios; two (2) AN-ARC-201D Radios; one (1) AN/APX-123A Identification Friend or Foe (IFF) Transponder; two (2) Embedded Global Positioning System with Inertial Navigation (EGIs); one (1) Common Missile Warning System User Data Module; Aviation Mission Planning System (AMPS); AMPS software development and support services; and other related elements of logistical, engineering, and program support. The estimated total cost is $23 million.

This proposed sale will support the foreign policy and national security of the United States by helping to improve the security of a Major Non-NATO Ally that is an important force for political stability and economic progress in the Middle East.

The UH-60M will supplement Jordan's existing Royal Squadron fleet of Black Hawk helicopters and be used to facilitate the movement of the Jordanian Royal Family in a safe and efficient manner. Jordan already has the UH-60M capability and will have no difficulty absorbing this equipment and services into its armed forces.

The proposed sale of this equipment and support will not alter the basic military balance in the region.

The principal contractors will be Sikorsky Aircraft Company, Stratford, CT and General Electric Aircraft Company, Lynn, MA. There are no known offset agreements proposed in connection with this potential sale.

Implementation of this proposed sale will not require the assignment of any additional U.S. Government or contractor representatives to Jordan.

There will be no adverse impact on U.S. defense readiness as a result of this proposed sale.

Transmittal No. 20-36

Notice of Proposed Issuance of Letter of Offer

Pursuant to Section 36(b)(1) of the Arms Export Control Act

Annex

Item No. vii

(vii) Sensitivity of Technology:

1. The UH-60M Black Hawk is an assault/utility helicopter. The UH-60M weapon system contains communications and identification equipment, navigation equipment, aircraft survivability equipment, displays, and sensors.

2. The AN/APR-39 Radar Signal Detecting Set is a system that provides warning of a radar directed air defense threat to allow appropriate countermeasures. This configuration is 1553 data bus compatible.

3. The AN/AVR-2B Laser Warning Set is a passive laser warning system that receives, processes, and displays threat information resulting from aircraft illumination by lasers on a multi-functional display.

4. The AN-ARC-231 is an airborne Very High Frequency/Ultra High Frequency (VHF/UHF) Line-of-Sight (LOS) and Demand Assigned Multiple Access (DAMA) satellite communications (SATCOM) system. The ARC-231 provides airborne, multi-band, multi-mission, secure anti-jam voice, data, and imagery network capable communications in a compact radio set.

5. The AN-ARC-201D Single Channel Ground and Airborne Radio System (SINCGARS) is a tactical airborne radio subsystem that provides secure, anti-jam voice and data communication.

6. The AAR-57(V) Common Missile Warning System (CMWS) detects threat missiles in flight, evaluates potential false alarms, declares validity of threat, and selects appropriate Infrared Countermeasures (IRCM). The system includes Electro-Optical Missile Sensors, an Electronic Control Unit (ECU), Sequencer, and Improved Countermeasures Dispenser (ICMD).

7. Embedded Global Positioning/Inertial Navigation (EGI) System provides Global Positioning System (GPS) and Inertial Navigation System (INS) capabilities to the aircraft. The EGI includes Selective Availability Anti-Spoofing Module (SAASM) security modules to be used for secure GPS Precise Positioning Service (PPS), if required.

8. The AN/APX-123A Identification Friend or Foe (IFF) Transponder is a space diversity transponder and is installed on various military platforms. When installed in conjunction with platform antennas and the Remote Control Unit (or other appropriate control unit), the transponder provides identification, altitude, and surveillance reporting in response to interrogations from airborne, ground-based and/or surface interrogators.

9. The Common Missile Warning System (CMWS) User Data Module (UDM) is a removable Personal Computer Memory Card International Association (PCMCIA) module that is installed in the UDM housing on the CMWS ECU. The UDM contains the Operational Flight Program (OFP), aircraft, threat/countermeasure file library, and mission specific information used in the embedded system.

10. The Aviation Mission Planning System (AMPS) is a hardware and software solution that provides state of the art mission planning tools to enhance situational awareness, command and control, and safety of aircraft pilots and aviation commanders. The system provides a suite of applications that allow users to perform task such as plot flight path waypoints, compute distance and fuel requirements, calculate aircraft configuration against weight and balance limits and perform flight safety validations, and generate briefing materials or pilot information kits.

11. The highest level of classification of defense articles, components, and services included in this potential sale is SECRET.

12. If a technologically advanced adversary were to obtain knowledge of the specific hardware and software elements, the information could be used to develop countermeasures which might reduce weapon system effectiveness or be used in the development of a system with similar or advanced capabilities.

13. This sale is necessary in furtherance of the U.S. foreign policy and national security objectives outlined in the Policy Justification. A determination has been made that Jordan can provide substantially the same degree of protection for the sensitive technology being released as the U.S. Government.

14. All defense articles and services listed in this transmittal have been authorized for release and export to Jordan.

[FR Doc. 2020-18476 Filed 8-21-20; 8:45 am]

BILLING CODE 5001-06-P